DEPARTMENT OF THE INTERIOR

Fish and Wildlife Service

Draft National Bald Eagle Management Guidelines; Extension of Public Comment Period

AGENCY: Fish and Wildlife Service, Interior

ACTION: Notice of availability; extension of comment period.

SUMMARY: We, the U.S. Fish and Wildlife Service (the Service), are extending the comment for the draft National Bald Eagle Management Guidelines. We are also extending the comment period on the proposed rule re-opening the public comment period on the proposal to remove the bald eagle from the List of Threatened and Endangered Wildlife under the Endangered Species Act, and on the proposed rule to establish a regulatory definition of “disturb” under the Bald and Golden Eagle Protection Act, via two additional notices published separately in the Proposed Rules section of today's issue of the Federal Register. Comments previously submitted need not be resubmitted as they have been incorporated into the public record and will be fully considered in the final guidelines.

DATES: The public comment period is extended to June 19, 2006. Any comments received after the closing date may not be considered in the final guidelines.

ADDRESSES: Copies of the Draft National Bald Eagle Management Guidelines can be obtained by writing to U.S. Fish and Wildlife Service, Division of Migratory Bird Management, 4401 North Fairfax Drive, Mail Stop MBSP-4107, Arlington, VA 22203. The draft guidelines may also be obtained via the Internet at: http://www.fws.gov/migratorybirds/baldeagle.html. Written comments can be sent to the mailing address above, or e-mailed to BaldEagle_ManagementGuidelines@fws.gov. All comments must include the name and full mailing address of the person submitting the comments. All comments received, including names and addresses, will become part of the public record. You may inspect comments by appointment during normal business hours at the address above.

FOR FURTHER INFORMATION CONTACT: Eliza Savage, Division of Migratory Bird Management, (see ADDRESSES section); or via e-mail at: Eliza_Savage@fws.gov; telephone: (703) 358-2329; or facsimile: (703) 358-2217.

SUPPLEMENTARY INFORMATION:

Background

On February 16, 2006, in anticipation of possible removal (delisting) of the bald eagle in the 48 contiguous States from the List of Endangered and Threatened Wildlife under the Endangered Species Act (ESA) (16 U.S.C. 1531 et seq.), the U.S. Fish and Wildlife Service (the Service) published a Notice of Availability of draft National Bald Eagle Management Guidelines (71 FR 8309). The Service concurrently proposed two other related actions: (1) a proposed regulatory definition of “disturb” under the Bald and Golden Eagle Protection Act (BGEPA) (71 FR 8265, February 16, 2006); and (2) a re-opening of the comment period on our proposal to remove the bald eagle from the list of threatened and endangered species under the ESA (71 FR 8238, February 16, 2006). Due to the complexity of these related actions, we are extending the comment period for each action for an additional 30 days.

Dated: May 10, 2006.
Marshall P. Jones, Jr.,
Acting Director, Fish and Wildlife Service.

[FR Doc. 06-4605 Filed 5-12-06; 1:17 pm]

BILLING CODE 4310-55-P